NUCLEAR REGULATORY COMMISSION

[Docket No. 052-00007]

Notice of Issuance of Early Site Permit for Exelon Generation Company, LLC, Site Located 6 Miles East of the City of Clinton, IL

AGENCY: Nuclear Regulatory Commission.

ACTION: Notice of issuance of early site permit.

FOR FURTHER INFORMATION CONTACT: Joelle L. Starefos, Senior Project Manager, AP1000 Projects Branch, Division of New Reactor Licensing, Office of New Reactors, U.S. Nuclear Regulatory Commission, Washington, DC 20555-0001. Telephone: (301) 415-8488; Fax number: (301) 415-2390; e-mail: jls1@nrc.gov.

SUPPLEMENTARY INFORMATION:

I. Introduction

Pursuant to 10 CFR 2.106, the Nuclear Regulatory Commission (NRC) is providing notice of the issuance of Early Site Permit (ESP) ESP-001 to Exelon Generation Company, LLC (EGC or the permit holder), for approval of a site located 6 miles east of the city of Clinton, Illinois, for one or more nuclear power facilities separate from the filing of an application for a construction permit or combined license for such a facility. The NRC has found that the application for an ESP filed by EGC complies with the applicable requirements of the Atomic Energy Act of 1954, as amended, and the applicable rules and regulations of the Commission, and all required notifications to other agencies or bodies have been duly made. Based on consideration of the site criteria contained in 10 CFR Part 100, a reactor, or reactors, having design characteristics that fall within the site characteristics and controlling parameters of the EGC ESP Site can be constructed and operated without undue risk to the health and safety of the public. There is reasonable assurance that the permit holder will comply with the regulations in 10 CFR Chapter I, and the health and safety of the public will not be endangered. Issuance of an ESP to the permit holder will not be inimical to the common defense and security or the health and safety of the public.

There is no significant impediment to the development of emergency plans, as referenced in 10 CFR 52.17(b)(1) and 10 CFR 52.18, “Standards for Review of Applications.” The descriptions of contacts and arrangements made with Federal, State, and local governmental agencies with emergency planning responsibilities, as set forth in 10 CFR 52.17(b)(3), are acceptable. Major features A, B, C, D, E, F, G, I, J, K, L, O, and P of the emergency plan are acceptable to the extent specified in NUREG-1844, “Safety Evaluation Report for an Early Site Permit (ESP) at the Exelon Generation Company, LLC (EGC) ESP Site.” The issuance of this ESP, subject to the Environmental Protection Plan and the conditions for the protection of the environment set forth herein, is in accordance with the National Environmental Policy Act of 1969, as amended, and with applicable sections of 10 CFR Part 51, “Environmental Protection Regulations for Domestic Licensing and Related Regulatory Functions,” as referenced by Subpart A of 10 CFR Part 52, “Early Site Permits; Standard Design Certifications; and Combined Licenses for Nuclear Power Plants,” and all applicable requirements therein have been satisfied. The site redress plan incorporated into this permit demonstrates that there is reasonable assurance that redress carried out under the plan, if required, will achieve an environmentally stable and aesthetically acceptable site suitable for whatever non-nuclear use may conform with local zoning laws, and those activities performed described in the site redress plan will not result in any significant adverse environmental impact that cannot be redressed. The permit holder's request for the proposed permit was previously noticed in the Federal Register on December 12, 2003, (68 FR 69426) with a notice of hearing and opportunity to petition for leave to intervene.

This early site permit complies with the standards and requirements of the Atomic Energy Act of 1954, as amended, and NRC's rules and regulations as set forth in 10 CFR Chapter I. Accordingly, Early Site Permit No. ESP-001 was issued to Exelon Generation Company, LLC on March 15, 2007, and is effective immediately.

II. Further Information

The NRC has prepared a Safety Evaluation Report (SER) and Environmental Impact Statement (EIS), that document the information that was reviewed and NRC's conclusions. In accordance with 10 CFR 2.390 of the NRC's “Rules of Practice,” details with respect to this action, including the SER, EIS, and accompanying documentation included in the early site permit package, are available electronically at the NRC's Electronic Reading Room at http://www.nrc.gov/reading-rm/adams.html. From this site, members of the public can access the NRC's Agencywide Document Access and Management System (ADAMS), which provides text and image files of NRC's public documents. The ADAMS accession numbers for the documents related to this notice are:

ML070670140 | Issuance of Early Site Permit for Exelon Generation Company, LLC (ESP-001).
ML061210203 | NUREG-1844—“Safety Evaluation Report for an Early Site Permit (ESP) at the Exelon Generation Company, LLC (EGC) ESP Site”.
ML061930264 | NUREG-1815 Vol 1—“Environmental Impact Statement for an Early Site Permit (ESP) at the Exelon ESP Site” Main Report.
ML061930275 | NUREG-1815 Vol 2—“Environmental Impact Statement for an Early Site Permit (ESP) at the Exelon ESP Site” Appendices A-K.
ML061100260 | Exelon Early Site Permit Application—Revision 4.

Persons who do not have access to ADAMS or who encounter problems in accessing the documents located in ADAMS should contact the NRC Public Document Room (PDR) Reference staff at 1-800-397-4209, 301-415-4737, or by e-mail to pdr@nrc.gov.

These documents may also be viewed electronically on the public computers located at the NRC's Public Document Room (PDR), O 1 F21, One White Flint North, 11555 Rockville Pike, Rockville, MD 20852. The PDR reproduction contractor will copy documents for a fee.

Dated at Rockville, Maryland, this 15th day of March, 2007.
For the Nuclear Regulatory Commission.
Stephanie M. Coffin,
Chief, AP1000 Projects Branch, Division of New Reactor Licensing, Office of New Reactors.

[FR Doc. E7-5247 Filed 3-21-07; 8:45 am]

BILLING CODE 7590-01-P